INTERNATIONAL TRADE COMMISSION

[ USITC SE-07-007]

Government in the Sunshine Act Meeting Notice

Agency Holding The Meeting: United States International Trade Commission.

Time and Date: May 11, 2007 at 11 a.m.

Place: Room 101, 500 E Street, SW., Washington, DC 20436, Telephone: (202) 205-2000.

Status: Open to the public.

Matters To Be Considered: 1. Agenda for future meetings: none.

2. Minutes.

3. Ratification list.

4. Inv. Nos. 731-TA-1111-1113 (Preliminary) (Glycine from India, Japan, and Korea)—briefing and vote. (The Commission is currently scheduled to transmit its determination to the Secretary of Commerce on or before May 14, 2007; Commissioners' opinions are currently scheduled to be transmitted to the Secretary of Commerce on or before May 21, 2007.)

5. Outstanding action jackets: none.

In accordance with Commission policy, subject matter listed above, not disposed of at the scheduled meeting, may be carried over to the agenda of the following meeting.

By order of the Commission.
Issued: April 30, 2007.
Marilyn R. Abbott,
Secretary to the Commission.

[FR Doc. E7-8625 Filed 5-4-07; 8:45 am]

BILLING CODE 7020-02-P